DEPARTMENT OF THE INTERIOR

Fish and Wildlife Service

Candidate Conservation Agreement with Assurances and Permit Application for a Proposed Reintroduction of the Robust Redhorse

AGENCY: Fish and Wildlife Service, Interior.

ACTION: Notice of availability.

SUMMARY: The Fish and Wildlife Service has received an application from Georgia Power Company (Applicant) for an enhancement of survival permit (ESP) pursuant to section 10(a)(1)(A) of the Endangered Species Act of 1973 (U.S.C. 1531 et seq.), as amended (Act). With the assistance of the Georgia Department of Natural Resources (GDNR) and the Service, Georgia Power Company proposes to reintroduce the robust redhorse (Moxostoma robustum) into a portion of the upper Ocmulgee River in central Georgia and conduct related research and monitoring activities. We are announcing our receipt of the permit application as well as the availability of a proposed Candidate Conservation Agreement with Assurances (CCAA) for the robust redhorse that is intended to facilitate the implementation of conservation measures for the species by the Applicant, GDNR, and the Service in support of on-going efforts to reintroduce the species into areas where it historically occurred.

DATES: Written comments on the CCAA and ESP application should be sent to the Service's Regional Office (see ADDRESSES) and should be received on or before November 29, 2001.

ADDRESSES: Persons wishing to review the CCAA and ESP application may obtain copies by writing the Service's Southeast Regional Office, Atlanta, Georgia. Documents will also be available for public inspection by appointment during normal business hours at the Regional Office, 1875 Century Boulevard, Suite 200, Atlanta, Georgia 30345 (Attn: Endangered Species Permits), or Field Supervisor, U.S. Fish and Wildlife Service, 247 South Milledge Avenue, Athens, Georgia 30605. Written data or comments concerning the CCAA or ESP application should be submitted to the Regional Office at the address listed above and must be submitted in writing to be adequately considered in the Service's decision-making process. Please reference permit number TE038547-0 in your comments, or in requests of the documents discussed herein.

FOR FURTHER INFORMATION CONTACT: Mr. Lee Andrews, Regional CCAA Coordinator, (see ADDRESSES above), telephone: 404/679-7217, facsimile: 404/679-7081; or Mr. Mark Bowers, Fish and Wildlife Biologist, Georgia Field Office, Athens, Georgia (see ADDRESSES above), telephone: 706/613-9493.

SUPPLEMENTARY INFORMATION: The robust redhorse is a large, rare sucker that was originally described from the Yadkin River, North Carolina, in 1869 by Edward Cope. Few specimens were collected and the species' status was uncertain until 1991 when a single population of robust redhorse was discovered by GDNR biologists along a 70-mile reach of the Oconee River in central Georgia. The robust redhorse is the largest North American sucker species and historically occurred in medium to large rivers of the South Atlantic Coastal Plain where it spawned on clean, rocky shoals. It is listed by the State of Georgia as endangered and is considered a species of management concern by the Service.

Since the rediscovery of the species, a number of management and conservation efforts for the robust redhorse have been implemented by the Robust Redhorse Conservation Committee (RRCC), which was established in 1995 through a Memorandum of Understanding among State and Federal agencies, private interests, research scientists, industry, and conservation organizations. The RRCC works voluntarily and cooperatively to determine the status of known robust redhorse populations, establish additional populations, and implement necessary research and other actions to maintain or enhance the survival of this species within its historic range. The Applicant, GDNR, and the Service are each members of the RRCC.

The RRCC has made significant conservation advances relative to the robust redhorse since 1995, including the development of propagation techniques, progress in the understanding of the species' life history and habitat requirements, and the discovery of three additional natural populations. In addition, three refugial populations have been established based on techniques developed through this cooperative effort. The RRCC has also secured funding necessary to continue and expand collaborative conservation efforts and research for the robust redhorse.

The RRCC has also developed a Conservation Strategy for the robust redhorse that includes short- and long-term goals for the conservation of the species. The short-term goals of the Conservation Strategy include, but are not limited to: (1) Establishing refugial populations to reduce the impact of potential catastrophic events on the species' survival; (2) Determining habitat and life history requirements of robust redhorse; and (3) Establishing reintroduction plans or agreements to facilitate conservation actions for specific sites. The long-term goal of the Conservation Strategy is to establish or maintain at least six self-sustaining populations of robust redhorse distributed throughout the species' historic range. These conservation goals are based on the recommendations of the RRCC, fishery biologists, research scientists, and State and Federal resource agencies, and are based on research reviewed by members of the RRCC. The activities covered by the proposed CCAA complement the efforts of the RRCC and support the RRCC's goals of establishing refugial and self-sustaining populations throughout the species' historic range.

CCAAs encourage private and other non-Federal property owners to implement conservation efforts and reduce threats to unlisted but declining species by assuring those landowners that they will not be subjected to increased land and water use restrictions if a species covered by a CCAA is listed in the future. By focusing on species which are not currently listed under the Act, including species proposed for listing, species which are formal candidates for listing, and species which may become proposed or candidate species in the future, CCAAs provide the opportunity to conserve declining species prior to or instead of listing. The robust redhorse is considered to be a species of management concern, and, as such, could become a proposed or candidate species in the future. Efforts such as those proposed in conjunction with the proposed CCAA will expedite reintroduction of robust redhorse into the Ocmulgee River by providing the Applicant with a regulatory incentive for participation that would not likely exist except for this CCAA. In this way, the proposed CCAA will address both the needs of the species and those of the Applicant.

The proposed CCAA represents a significant milestone in the cooperative conservation efforts for the species and is consistent with section 2(a)(5) of the Act, which encourages creative partnerships among public, private, and government entities to conserve imperiled species and their habitats. Consistent with our CCAA policy, the proposed CCAA is intended to facilitate conservation actions for robust redhorse that will remove or reduce the threats to the species. The CCAA is also intended to provide the Applicant with regulatory certainty related to its electric power generation operations at Lloyd Shoals Dam, which controls flows within that portion of the Ocmulgee River where the conservation actions will occur, should the robust redhorse become federally listed as threatened or endangered in the future.

The conservation measures in the CCAA would be implemented by the Applicant, with the assistance of GDNR and the Service, and would consist of reintroducing robust redhorse into a portion of the upper Ocmulgee River in central Georgia, monitoring the effectiveness of reintroduction efforts, conducting research on critical life history and habitat requirements for the species within the project area, and working collaboratively to identify and protect important robust redhorse habitats within the project area through existing laws and regulations. These objectives support the Conservation Strategy for the species developed by the RRCC.

The Applicant has committed to implement the conservation measures specified in the CCAA and requests issuance of the ESP in order to address the take prohibitions of section 9 of the Act should the species become listed in the future. When determining whether to issue the requested ESP, the Service will consider a number of factors and information sources including the project's administrative record, any public comments received, and the application requirements and issuance criteria for CCAAs contained in 50 CFR part 17.22(d) and part 17.32(d). The Service will also evaluate whether the issuance of the ESP complies with section 7 of the Act by conducting an intra-Service section 7 consultation. The results of this consultation, in combination with the above findings, regulations, and public comments, will be used in the final analysis to determine whether or not to issue the requested ESP.

In a CCAA, we will provide that if any species covered by the CCAA is listed, and the CCAA has been implemented in good faith by the Applicant, we will not require additional conservation measures nor impose additional land, water, or resource use restrictions beyond those the property owner voluntarily committed to under the terms of the CCAA. We have made the preliminary determination that the Applicant's conservation measures will likely meet the intent of the CCAA policy, primarily due to the potential establishment of another self-sustaining population of the species within its historic range. The proposed CCAA would be in effect for a period of 22 years in that portion of the Ocmulgee River lying downstream of Lloyd Shoals Dam (river mile 250.2) and upstream of a low-head dam at Juliette, Georgia (river mile 230.9). Habitat conditions within this portion of the Ocmulgee River have been evaluated by the Applicant, GDNR, and the Service and are believed to be suitable for the robust redhorse such that there is a high likelihood that a refugial or reproducing population will become established.

We are providing this notice pursuant to section 10(c) of the Endangered Species Act and implementing regulations for the National Environmental Policy Act (40 CFR part 1506). We will not make our final determination until after the end of the 30-day comment period and will fully consider all comments received during the comment period. If the final analysis shows the CCAA to be consistent with the Service's policies and applicable regulations, the Service will sign the CCAA and issue the ESP. The proposed ESP would, in compliance with the CCAA policy, only become valid on such date as the robust redhorse is listed as a threatened or endangered species under the Act.

This notice also advises the public that the Service has made a preliminary determination that issuance of the ESP will not result in significant environmental, economic, social, historical or cultural impacts and is, therefore, categorically excluded from review under the National Environmental Policy Act of 1969, as amended (NEPA), pursuant to 516 Departmental Manual 2, Appendix 1 and 516 Departmental Manual 6, Appendix 1. This notice is provided pursuant to section 10 of the Act and our CCAA Policy (Federal Register Vol. 64, No. 116, June 17, 1999, pp. 32726-32736). The Service specifically requests information, views, and opinions from the public via this notice. Further, the Service is specifically soliciting information regarding the adequacy of the CCAA as measured against the Service's CCAA Policy.

Dated: October 22, 2001.
H. Dale Hall,
Acting Regional Director.

[FR Doc. 01-27213 Filed 10-29-01; 8:45 am]

BILLING CODE 4310-55-P